DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Mental Health Study Field Test—NEW

The Substance Abuse and Mental Health Services Administration (SAMHSA) plans to conduct a methodological field test for a potential national mental health study, provisionally named the National Mental Health Study (NMHS). The NMHS will use mental disorder assessments similar to studies last conducted over a decade ago in the National Comorbidity Survey-Replication among adults in 2001-2003 and the National Comorbidity Survey-Adolescent supplement among adolescents in 2001-2002. SAMHSA is collaborating with the National Institute of Mental Health (NIMH) to implement this field test.

The purpose of the NMHS Field Test is to test the procedures for a potential NMHS. The field test consists of three general components. The first component is sample selection using a household screener. The household screener will be used to determine eligibility of individuals and to make selections of individuals to recruit for participation in the second component. The second component consists of an in-person survey of the selected adult and adolescent respondents. The NMHS procedures vary somewhat between adults (aged 18 or older) and adolescents (aged 13 to 17). For all respondents, the in-person assessment (using either the adult or adolescent instrument) will be conducted primarily using audio computer-assisted self-interviewing (ACASI), with an emphasis on respondents completing the interview in a single session. In addition to the adolescent in-person assessment, parents/legal guardians of adolescent respondents will receive an additional web or phone interviews (the parent instrument). The final component consists of a telephone clinical reappraisal of a selected subgroup of adult and adolescent respondents, with an additional parent/guardian reporting for adolescents.

The NMHS field test will include 1,200 English speaking respondents—900 adults and 300 adolescents in the United States excluding Alaska and Hawaii. Approximately 210 parents/legal guardians of adolescent respondents will complete an additional parent interview. A subsample of approximately 150 adult and adolescent respondents and 50 parent respondents will complete a telephone-based clinical reappraisal follow-up interview. In addition, a subsample of completed screening and interview cases will be re-contacted for a brief telephone interview to verify that interviewers followed proper protocols when collecting data. The sample size supports testing of field procedures, sampling algorithms, and data processing steps. The total annual burden estimate is shown in the table below.

Annualized Estimated Burden for the National Mental Health Study Field Test
Instrument | Number of respondents | Responses per respondent | Total number of responses | Hours per response | Total burden hours
Household Screening | 2,331 | 1 | 2,331 | 0.083 | 193
Interview (including interviews with Adults and Adolescents) | 1,200 | 1 | 1,200 | 1.083 | 1,300
Parent Interview | 210 | 1 | 210 | 0.500 | 105
Clinical Interview | 150 | 1 | 150 | 1.000 | 150
Clinical Parent Interview | 50 | 1 | 50 | 0.500 | 25
Screening Verification | 142 | 1 | 142 | 0.067 | 10
Interview Verification | 180 | 1 | 180 | 0.067 | 12
Total | 4,263 |  | 4,263 |  | 1,795

Written comments and recommendations concerning the proposed information collection should be sent by August 10, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-14374 Filed 7-10-17; 8:45 am]

BILLING CODE 4162-20-P